NUCLEAR REGULATORY COMMISSION

[NRC-2021-0001]

Sunshine Act Meetings

TIME AND DATE: Weeks of March 22, 29, April 5, 12, 19, 26, 2021.

PLACE: Commissioners' Conference Room, 11555 Rockville Pike, Rockville, Maryland.

STATUS: Public.

Week of March 22, 2021

There are no meetings scheduled for the week of March 22, 2021.

Week of March 29, 2021—Tentative

There are no meetings scheduled for the week of March 29, 2021.

Week of April 5, 2021—Tentative

There are no meetings scheduled for the week of April 5, 2021.

Week of April 12, 2021—Tentative

Tuesday, April 13, 2021

9:00 a.m.—Briefing on Advanced Reactor Preparedness Through Regulatory Engagement and Research Cooperation (Public Meeting) (Contact: Marilyn Diaz Maldonado: 301-415-7110)

Additional Information: Due to COVID-19, there will be no physical public attendance. The public is invited to attend the Commission's meeting live by webcast at the Web address— https://video.nrc.gov/.

Week of April 19, 2021—Tentative

There are no meetings scheduled for the week of April 19, 2021.

Week of April 26, 2021—Tentative

There are no meetings scheduled for the week of April 26, 2021.

CONTACT PERSON FOR MORE INFORMATION: For more information or to verify the status of meetings, contact Wesley Held at 301-287-3591 or via email at Wesley.Held@nrc.gov. The schedule for Commission meetings is subject to change on short notice.

The NRC Commission Meeting Schedule can be found on the internet at: https://www.nrc.gov/public-involve/public-meetings/schedule.html.

The NRC provides reasonable accommodation to individuals with disabilities where appropriate. If you need a reasonable accommodation to participate in these public meetings or need this meeting notice or the transcript or other information from the public meetings in another format (e.g., Braille, large print), please notify Anne Silk, NRC Disability Program Specialist, at 301-287-0745, by videophone at 240-428-3217, or by email at Anne.Silk@nrc.gov. Determinations on requests for reasonable accommodation will be made on a case-by-case basis.

Members of the public may request to receive this information electronically. If you would like to be added to the distribution, please contact the Nuclear Regulatory Commission, Office of the Secretary, Washington, DC 20555, at 301-415-1969, or by email at Tyesha.Bush@nrc.gov.

The NRC is holding the meetings under the authority of the Government in the Sunshine Act, 5 U.S.C. 552b.

Dated: March 18, 2021.
For the Nuclear Regulatory Commission.
Wesley W. Held,
Policy Coordinator, Office of the Secretary.

[FR Doc. 2021-06012 Filed 3-19-21; 11:15 am]

BILLING CODE 7590-01-P